DEPARTMENT OF TRANSPORTATION

Federal Aviation Administration

14 CFR Part 93

Runway Closure-Related Scheduling Relief Concerning Operations at San Francisco International Airport, Newark Liberty International Airport, Chicago O'Hare International Airport, Los Angeles International Airport, and John F. Kennedy International Airport, January 15, 2024, Through July 15, 2024

AGENCY: Federal Aviation Administration (FAA), Department of Transportation.

ACTION: Notification of limited waiver of slot usage requirement and limited scheduling relief.

SUMMARY: This notification announces a limited, conditional policy for prioritizing returned operations at San Francisco International Airport (SFO) due to a construction-related runway closure at SFO for purposes of establishing a carrier's operational baseline in the next corresponding scheduling seasons. In addition, the FAA will provide similar limited, conditional relief at Newark Liberty International Airport (EWR), Chicago O'Hare International Airport (ORD), and Los Angeles International Airport (LAX) under the FAA's Level 2 schedule facilitation process as well as a limited, conditional waiver of minimum usage requirements at John F. Kennedy International Airport (JFK) for impacted flights between SFO and the listed airports.

DATES: The limited waiver of slot usage requirement and limited scheduling relief in this notification are effective May 17, 2024, and applicable from January 15, 2024, through July 15, 2024.

ADDRESSES: Requests may be submitted by mail to the Slot Administration Office, System Operations Services, AJR-0, Room 300W, 800 Independence Avenue SW, Washington, DC 20591, or by email to: 7-awa-slotadmin@faa.gov.

FOR FURTHER INFORMATION CONTACT: For questions concerning this notification contact: Al Meilus, Capacity and Slot Analysis, FAA ATO System Operations Services, AJR-G5, Federal Aviation Administration, 800 Independence Avenue SW, Washington, DC 20591; telephone 202-267-2822; email al.meilus@faa.gov.

SUPPLEMENTARY INFORMATION: The relief provided enables carriers to return operations at SFO during the construction periods of the Winter 2023/2024 and Summer 2024 scheduling seasons without unduly impacting schedules in subsequent seasons.¹ Reducing operations will help prevent delays, optimize the efficient use of the airport's available resources, and deliver passengers to their destinations more reliably and on time.

¹ For the purposes of this notification, a “returned operation” is any planned operation included in the initially approved schedules that a carrier moved or will not operate due to the effort to reach the targeted reduced schedule throughout the construction period at SFO. If a carrier elected to move an operation, the operation was rescheduled outside of peak demand hours or hours adjacent to peak demand as detailed in this notification.

Background

SFO is rehabilitating one of its four runways, Runway 10R/28L, to maintain runway operability; to construct a new taxiway to improve operational efficiency; and to realign an existing taxiway to rectify deficiencies with current SFO geometry. Runway 10R/28L is one of two parallel runways oriented in the east-west direction and is used as a primary arrival runway and a secondary departure runway. The construction will cause the continuous closure of Runway 10R/28L from January 15, 2024, through June 30, 2024.

On October 26, 2023, the FAA held an initial meeting with all the carriers that have scheduled operations at SFO. The FAA gave a presentation on the expected impact of the construction project on operations at SFO and recommended a reduction in operations to alleviate potential delays and cancellations. SFO initially planned for the project to occur in two phases: Phase 1 planned for January 16, 2024, through May 28, 2024; and Phase 2 planned for September 3, 2024, through October 25, 2024.

On December 14, 2023, the FAA and SFO held a joint meeting with all the carriers that have scheduled operations at SFO. SFO announced that Phase 2 had been rescheduled to begin on May 29, 2024, and end on June 30, 2024. This change allows the construction to be condensed into one continuous block of time from January 15, 2024, through June 30, 2024.

At both meetings, the FAA requested that carriers voluntarily return operations. Carriers were asked to make initial returns by November 2, 2023, for the affected portion of the winter scheduling season; and by January 11, 2024, for the affected portion of the summer 2024 scheduling season. The FAA subsequently determined that relief granted for the construction period should extend beyond the construction period by an additional 15 days to accommodate carriers resuming normal scheduled operations.

The FAA has designated SFO, EWR, ORD, and LAX as Level 2 airports under the Worldwide Slot Guidelines (WSG).² The FAA does not allocate slots, apply historic precedence, or impose minimum usage requirements at SFO. Level 2 schedule facilitation depends upon close and continuous discussions and voluntary agreement between airlines and the FAA to reduce congestion. At Level 2 airports, the FAA generally provides priority consideration for flights approved by the FAA and operated by the carrier in those approved times in the prior scheduling season when the FAA reviews proposed flights for facilitation in the next corresponding scheduling season. Only those flights that were actually operated as approved in the prior scheduling season would generally receive priority for the next corresponding scheduling season. However, the FAA notes that the usual Level 2 processes include flexibility for the facilitator to prioritize planned flights, which are canceled in advance or on the day of the scheduled operation due to operational impacts that are beyond the control of the carrier.

² The FAA generally applies the WSG to the extent there is no conflict with U.S. law or regulation. The FAA recognizes the WSG has been replaced by the Worldwide Airports Slot Guidelines (WASG) edition 1, effective June 1, 2020, and subsequently WASG edition 2, effective July 1, 2022. The WASG is published jointly by Airports Council International-World, IATA, and the Worldwide Airport Coordinators Group (WWACG). While the FAA is considering whether to implement certain changes to the Guidelines in the United States, it will continue to apply WSG edition 9.

At JFK, each slot must be used a minimum of 80 percent of the time.³ Slot usage at JFK is calculated seasonally. Slots not meeting the minimum usage requirement will not receive historic status for the following equivalent scheduling season.⁴ The FAA may waive the 80 percent minimum usage requirement if a highly unusual and unpredictable condition beyond the control of the slot-holding air carrier affects carrier operations for a period of five consecutive days or more at JFK.⁵

³ Operating Limitations at John F. Kennedy International Airport, 87 FR 65161 at 65162 (Oct. 28, 2022); Operating Limitations at New York LaGuardia Airport, 87 FR 65159 at 65160 (Oct. 28, 2022); 14 CFR 93.227(a).

⁴ Operating Limitations at John F. Kennedy International Airport, 87 FR 65161 at 65162 (Oct. 28, 2022).

⁵ Operating Limitations at John F. Kennedy International Airport, 87 FR 65161 at 65163 (Oct. 28, 2022); Operating Limitations at New York LaGuardia Airport, 87 FR 65159 at 65160 (Oct. 28, 2022); 14 CFR 93.227(j).

FAA Analysis

Due to the daily volume of flights arriving and departing SFO, the closure of Runway 10R/28L is expected to significantly affect carriers' ability to operate reliably and on time. Absent increased scheduling flexibility during the construction period, the FAA anticipates a high likelihood of congestion, delays, and cancellations at SFO, with related impact at EWR, ORD, LAX, and JFK. The runway closure is expected to impact carrier operations at SFO especially in the the peak demand hours of 0900, 1200, 1500, 1700, 1800, 2000, and 2100 hours.

The FAA modeled two scenarios of the expected delays at SFO for Phase 1 and Phase 2 respectively: one scenario without any mitigation measures, and one scenario with arrival limit mitigation measures in place. The mitigation measures incorporate Air Traffic Control (ATC) data used to assess capacity at SFO throughout the construction period. These mitigation measures align with the number of operations that ATC finds to be sustainable during the runway closure, while accounting for the differing arrival demand profiles in Phase 1 and Phase 2.

Phase 1 of the construction requires a total closure of Runway 10R/28L, with Taxiways D and T partially affected. As such, for the scenario without any mitigation measures, the FAA estimates approximately 78% of total arrivals would be delayed by an average of 49 minutes per arrival. These arrival delays would be unrecoverable throughout the day.

The FAA then modeled a scenario that limited the arrivals to no more than 30 per hour throughout the day, except for the 0900, 1200, 1500, 1700, 1800, 2000, and 2100 hours where the arrival limit is increased to no more than 35 per hour. This is because Phase 1 arrival demand varies by hour, with peak arrival demand exceeding 35 per hour, and off-peak arrival demand decreasing in some hours to under 25 arrivals per hour. Given that the capacity of the airport is limited to 30 arrivals per hour on average, the target arrival limits are set by hour to accommodate variable hourly arrival demand, with an ability to recover in adjacent hours. With this mitigation measure in place, the FAA estimates that approximately 52% of total arrivals will experience an average delay of about 21 minutes per arrival.

Phase 2 of the construction requires the total closure of Runway 10R/28L and Taxiways D and T. As such, for the scenario without any mitigation measures, the FAA estimates approximately 90% of total arrivals would be delayed by an average of 87.6 minutes per arrival. The consequences of arrival delays of over two hours would result in 89 arrival cancellations per day.⁶ These arrival delays are expected to be unrecoverable throughout the day.

⁶ The FAA's delay model assumes that when estimated delay becomes greater than 2 hours, an airline will cancel the operation.

The FAA also modeled a scenario that limited the arrivals to no more than 27 per hour throughout the day. This is because for Phase 2 the hourly arrival demand exceeds the airport's arrival capacity in every hour; therefore, the target scheduling limit is set to the airport's arrival capacity for every hour throughout the day. With this mitigation measure in place, the FAA estimates that approximately 24% of total arrivals will experience an average delay of approximately 10.4 minutes per arrival.

After assessing these scenarios, the FAA determined that the mitigation measures for both Phase 1 and Phase 2 will balance efficient and timely operations at SFO during the construction period and limit the impact on carrier's scheduled operations for the convenience of the flying public. Although the potential for significant delays may still occur on late evenings during high-traffic days, the majority of operating hours will be manageable throughout the day during the construction period.

Decision

The FAA has determined that the construction and resulting runway closure at SFO warrants limited, conditional schedule relief because the impacts to operations are beyond the carriers' control and will persist for several months during 2024.

For Phase 1, the FAA requests that carriers reduce operations in the 0900, 1200, 1500, 1700, 1800, 2000, and 2100 hours to no more than 35 arrivals in each of these hours, without moving operations into the adjacent hours. The adjacent hours are heavily subscribed with departures, limiting the ability to move arrivals from peak hours into the adjacent hours. Because the current scheduled arrival demand at SFO for each of those hours is well above 35 arrivals,⁷ doing so would result in a reduction of about 55 to 60 operations on peak days during the construction period, depending on the day/week/month.

⁷ 0900 hour has an arrival demand of 52. 1500 hour has an arrival demand of 39. 2100 hour has an arrival demand of 42.

For Phase 2, the FAA requests that carriers reduce operations to no more than 27 arrivals per hour, without moving operations into the adjacent hours. Because the current scheduled arrival demand at SFO for each of those hours is well above 27 arrivals, doing so would result in a reduction of about 140 operations on peak days during the construction period, depending on the day or week or month.

The FAA is not limiting the relief to specific hours in order to provide some degree of flexibility to carriers to allow them to balance schedules and slot pairs. The FAA will continue to work with carriers on retiming and schedule adjustment options throughout the construction period as needed.

This relief is effective from January 15, 2024, through July 15, 2024. This provides some time before and after the currently planned runway closure dates to accommodate potential changes to the construction schedule, and provide carriers that may need some relief on either side of the current anticipated construction dates to phase in or phase out current operations.

In addition, the FAA is extending a limited, conditional waiver from minimum usage requirements at JFK for departure slots for nonstop service to SFO, and providing similar relief at EWR, LAX, and ORD under the Level 2 process for approved schedules associated with a SFO departures for nonstop service to these U.S. airports. Carriers may also choose to use those slots at JFK and or the approved runway times at EWR, LAX, and ORD for operations to airports other than SFO.

For the duration of the construction period, the FAA will recognize priority of approved schedules or the historical precedence of related slots, subject to the following conditions.

1. Slots or approved schedules for initial use in the Winter 2023/2024 scheduling season are not eligible for relief. Slots or schedules approved for initial use in the Summer 2024 scheduling season are not eligible for relief.

2. Slots granted historic precedence for subsequent seasons based on this relief are not eligible for transfer if the slot holder ceases all operations at the airport.

Issued in Washington, DC, on May 2, 2024.
Alyce Hood-Fleming,
Vice President, System Operations Services.

[FR Doc. 2024-10319 Filed 5-16-24; 8:45 am]

BILLING CODE 4910-13-P